DEPARTMENT OF HEALTH AND HUMAN SERVICES

Centers for Disease Control and Prevention

[60Day-17-17NS; Docket No. CDC-2017-0009]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection project titled “Assessing the Infrastructure for Public Sexually Transmitted Disease (STD) Prevention Services.” The primary goal of this study is to periodically monitor (i.e., every 3 years) STD preventive and treatment services provided by local and state health departments. This will allow CDC to understand the delivery of timely public STD preventive and treatment services to reduce the number of newly acquired STDs and prevent STD-related sequelae.

DATES: Written comments must be received on or before May 1, 2017.

ADDRESSES: You may submit comments, identified by Docket No. CDC-2017-0009 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Assessing the Infrastructure for Public Sexually Transmitted Disease (STD) Prevention Services—NEW—National Center for HIV/AIDS, Viral Hepatitis, STD, and TB Prevention (NCHHSTP), Centers for Disease Control and Prevention (CDC).

Background and Brief Description

A significant percentage of reported cases of STDs are diagnosed in publicly funded clinics, such as STD clinics. Specifically, past research has shown that a substantial proportion of HIV (10% or more), primary and secondary syphilis (14%-48%), gonorrhea (13%-41%), and chlamydia (6%-28%) are diagnosed in public STD clinics. These public clinics often serve uninsured and under insured populations. The Congressional Budget Office estimates 10% of the nonelderly population will remain uninsured in the US through 2023. Additionally, over half of patients who visit STD clinics cited low cost as a reason for choosing STD clinics for care in a 1995 survey. Because a continued role for STD clinics is likely to exist as a safety net while the US healthcare market evolves, understanding the current level of STD services, funding, and staffing levels is important. No recent published studies have provided this information on a national scale.

A 2012 conference presentation noted the experience of one state, which stopped funding for STD clinics in 2009. A 2013 national survey of local health departments (LHDs) found gaps and reductions in public STD services, including in clinical services that are important to reduce disease transmission. The study also found that STD programs in local and state health departments (SHDs) often provide HIV services such as HIV field testing of STD contacts and surveillance activities. However, there is no national survey that periodically collects detailed information on STD practices of physicians who typically see STD patients.

Given the changing US healthcare system and reductions in public health funding, it is important to periodically assess the current level of publicly-funded STD prevention services that are offered by health departments in the US. The mission of the STD prevention at CDC is “to provide national leadership, research, policy development, and scientific information to help people live safer, healthier lives by the prevention of STDs and their complications.” A major component of this objective is delivering timely STD preventive and treatment services to reduce the number of newly acquired STDs and prevent STD-related sequelae. The Division of Sexually Transmitted Diseases Prevention (DSTDP) at CDC is seeking a three-year approval from the OMB to conduct a new information collection. This assessment would allow CDC to periodically monitor STD preventive and treatment services provided by local and state health departments.

Information collected will include STD program structure, public STD clinical services, STD partner services, other STD prevention services such as surveillance and health promotion, and STD program workforce and impact of budget cuts on STD services.

The web survey will be sent by email to a sample of local health departments and all state health departments (with two reminder letters).

There is no cost to respondents.

Estimated Annualized Burden Hours
Type of respondents | Form name | Number of respondents | Number of responses per respondent | Average burden per response (in hours) | Total burden (in hours)
STD program director, LHDs | LHD survey | 334 | 1 | 19/60 | 106
STD program director, SHDs | SHD survey | 44 | 1 | 19/60 | 14
Total Annual Burden Hours |  |  |  |  | 120

Leroy A. Richardson,
Chief, Information Collection Review Office, Office of Scientific Integrity, Office of the Associate Director for Science, Office of the Director, Centers for Disease Control and Prevention.

[FR Doc. 2017-04044 Filed 3-1-17; 8:45 am]

BILLING CODE 4163-18-P